SECURITIES AND EXCHANGE COMMISSION

Proposed Collection; Comment Request

Upon Written Request, Copies Available From: Securities and Exchange Commission, Office of Filings and Information Services, Washington, DC 20549.

Extension

Form T-6, OMB Control No. 3235-0391, SEC File No. 270-344

Form 11-K, OMB Control No. 3235-0082, SEC File No. 270-101

Form 144, OMB Control No. 3235-0101, SEC File No. 270-112

Notice is hereby given that pursuant to the Paperwork Reduction Act of 1995 (44 U.S.C. 3501 et seq.) the Securities and Exchange Commission (“Commission”) is soliciting comments on the collections of information summarized below. The Commission plans to submit these existing collections of information to the Office of Management Budget for extension and approval.

Form T-6 (OMB Control No. 3235-0391, SEC File No. 270-344) is a statement of eligibility and qualification for a foreign corporate trustee under the Trust Indenture Act of 1939. Form T-6 provides the basis for determining if a trustee is qualified. Form T-6 takes approximately 17 burden hours to be prepared and is filed by 15 respondents. It is estimated that 25% of the 255 total burden hours (64 hours) is prepared by the filer. The remaining 75% of burden hours is prepared by outside counsel.

Form 11-K (OMB Control No. 3235-0082; SEC File No. 270-101) is the annual report designed for use by employee stock purchase, savings and similar plans to facilitate their compliance with the reporting requirement. The Form 11-K is necessary to provide employees with information, including financial information, with respect to the investment vehicle or plan itself. Also, Form 11-K provides employees with the necessary information to assess the performance of the investment vehicle in which their money is invested. Form 11-K takes approximately 30 burden hours to prepare and is filed by 2,300 respondents for total of 69,000 burden hours.

Form 144 (OMB 3235-0101; SEC File No. 270-112) is used to report the sale of securities during any three-month period that exceeds 500 shares or other units or has an aggregate sales price in excess of $10,000. Form 144 operates in conjunction with Rule 144. Form 144 takes approximately 2 burden hours to prepare and is filed by 18,096 respondents for a total of 36,192 total burden hours.

Written comments are invited on: (a) Whether these proposed collections of information are necessary for the proper performance of the functions of the agency, including whether the information will have practical utility; (b) the accuracy of the agency's estimate of the burden of the collection of information collection information; (c) ways to enhance the quality, utility, and clarity of the information collected; and (d) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 Fifth Street, NW., Washington, DC 20549.

Dated: July 25, 2003.
Margaret H. McFarland,
Deputy Secretary.

[FR Doc. 03-19725 Filed 8-1-03; 8:45 am]

BILLING CODE 8010-01-P